DEPARTMENT OF THE INTERIOR

National Park Service

[NPS-WASO-CONC-32679; PPWOBSADC0, PPMVSCS1Y.Y00000]

Notice of Intent To Award a Sole-Source Concession Contract for Visitor Services at Bryce Canyon National Park

AGENCY: National Park Service, Interior.

ACTION: Notice of proposed award of sole-source concession contract for visitor services at Bryce Canyon National Park.

SUMMARY: Public notice is given that the National Park Service proposes to award a sole-source concession contract for the provision of lodging, food and beverage, retail, and other visitor services within Bryce Canyon National Park.

DATES: The term of the sole-source concession contract will commence (if awarded) no earlier than January 1, 2026, with an anticipated term of 1 year, but up to 3 years, if necessary.

FOR FURTHER INFORMATION CONTACT: Kurt Rausch, Program Chief, Commercial Services Program, National Park Service, 1849 C Street NW, Mail Stop 2410, Washington, DC 20240; Telephone: 202-513-7156.

SUPPLEMENTARY INFORMATION: Pursuant to 36 CFR 51.25, the Director of the National Park Service (Service) may award a concession contract non-competitively upon a determination that extraordinary circumstances exist under which compelling and equitable considerations require the award of the concession contract to a particular qualified person in the public interest and that such an award is otherwise consistent with the requirements of part 51. Contracts that are awarded non-competitively under this authority are commonly referred to as “sole-source” contracts. The Service has determined that the proposed award of a sole-source contract to Aramark Sports and Entertainment Services, LLC (Aramark) is necessary based on the following information.

The extraordinary circumstances in this instance are due to delays in the solicitation and award of a commercial services contract for these visitor services and facilities under the Visitor Experience Improvement Authority (VEIA), 54 U.S.C. 101931-38, and the need for a transition period before operations commence under a new contract. The existing temporary contract for these visitor services expires on December 31, 2025. The Service has exhausted the time allowed for temporary contracts authorized under 36 CFR 51.24. Indisputable compelling and equitable considerations require the award of the sole-source contract because the Service otherwise would need to close the contracted operations and no other operators provide similar services in the park, resulting in severe adverse impacts for many visitors who rely on these services. The term of the sole-source contract will be limited to the time needed to transition to a new contract.

The Service has determined that Aramark is a “qualified person” as defined by 36 CFR 51.3, and, having already made the investments necessary for the operations, is the only entity positioned to provide the visitor services during the transition. Awarding the sole-source contract is in the public interest as the only viable option for avoiding an interruption of visitor services and ensuring an authorized operator maintains and insures the facilities. The award is otherwise consistent with the requirements of part 51.

This is not a request for proposals. The publication of this notice reflects the intent of the Service but does not bind the Service to award the sole-source contract.

Nicole Woody,
Acting Associate Director, Business Services.

[FR Doc. 2025-20192 Filed 11-17-25; 8:45 am]

BILLING CODE 4312-52-P